DEPARTMENT OF THE INTERIOR

National Park Service

[NPS-WASO-NAGPRA-NPS0037052; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is no cultural affiliation between the human remains and associated funerary objects and any Indian Tribe. The human remains and associated funerary objects were removed from Geary County, KS.

DATES: Disposition of the human remains and associated funerary objects in this notice may occur on or after January 12, 2024.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the determinations in this notice, including the results of consultation, can be found in the inventory or related records held by Kansas State University.

Description

Human remains representing, at minimum, two individuals were removed from the Elliot site, 14GE303, in Geary County, KS. The Elliott site was first excavated in the fall of 1970, by Dr. Patricia J. O'Brien of Kansas State University. The area designated the Elliott site is assigned a single site number, but it is not a continuous debris scatter. Rather, it is comprised of several discrete clusters of material culture that span the Early Plains Archaic through the Middle Ceramic periods. Accordingly, each cluster has been assigned a separate site number. Thus, in addition to the 14GE303 number, the following 12 additional State of Kansas archeological site numbers pertain to this locality: 14GE310, 14GE311, 14GE312, 14GE313, 14GE322, 14GE401, 14GE625, 14GE626, 14GE627, 14GE628, 14GE629, and 14GE630. The human remains and associated funerary objects listed in this notice come from the cluster at the Elliott site designated 14GE312, which demonstrates a Woodland-era affiliation. In 1971, 1972, and 1982, additional excavations were conducted at 14GE312. The resulting assemblages were processed and cataloged in the field and then removed to the archaeology laboratory at Kansas State University for analysis, reporting, and curation, where they have since remained. The 28 associated funerary objects are 19 bone beads (whole and fragmented), eight animal bone fragments, and one bone tool.

Aboriginal Land

The human remains and associated funerary objects in this notice were removed from known geographic locations. These locations are the aboriginal lands of one or more Indian Tribes. The following information was used to identify the aboriginal land: treaties.

Determinations

Pursuant to NAGPRA and its implementing regulations, and after consultation with the appropriate Indian Tribes, Kansas State University has determined that:

• The human remains described in this notice represent the physical remains of two individuals of Native American ancestry.

• The 28 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Kaw Nation, Oklahoma; Pawnee Nation of Oklahoma; The Osage Nation; Three Affiliated Tribes of the Fort Berthold Reservation, North Dakota; and the Wichita and Affiliated Tribes (Wichita, Keechi, Waco, & Tawakonie), Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after January 12, 2024. If competing requests for disposition are received, Kansas State University must determine the most appropriate requestor prior to disposition. Requests for joint disposition of the human remains and associated funerary objects are considered a single request and not competing requests. Kansas State University is responsible for sending a copy of this notice to the Indian Tribes identified in this notice.

Authority: Native American Graves Protection and Repatriation Act, 25 U.S.C. 3003, and the implementing regulations, 43 CFR 10.9 and 10.11.

Dated: December 6, 2023.
Melanie O'Brien,
Manager, National NAGPRA Program.

[FR Doc. 2023-27366 Filed 12-12-23; 8:45 am]

BILLING CODE 4312-52-P